OFFICE OF PERSONNEL MANAGEMENT

5 CFR Part 532

RIN 3206-AM59

Prevailing Rate Systems; Abolishment of the Washington, DC, Special Wage Schedule for Printing Positions

AGENCY: U.S. Office of Personnel Management.

ACTION: Correcting amendment.

SUMMARY: The U.S. Office of Personnel Management published a final rule in the Federal Register on December 14, 2012, abolishing the Washington, DC, Federal Wage System special wage schedule for printing and lithographic positions. The final rule incorrectly listed the page number of the interim rule published on July 13, 2012, in the words of issuance. This document corrects this error.

DATES: Effective: January 2, 2013.

FOR FURTHER INFORMATION CONTACT: Madeline Gonzalez, (202) 606-2838; email pay-performance-policy@opm.gov; or FAX: (202) 606-4264.

SUPPLEMENTARY INFORMATION: In a final rule published in the Federal Register on December 14, 2012 (77 FR 74347), the U.S. Office of Personnel Management (OPM) incorrectly listed the page number of the interim rule published on July 13, 2012, as 41427 instead of 41247 in the words of issuance. The page number is correctly listed in the supplementary information of the interim rule. This document corrects the error.

Office of Personnel Management.
Jerome D. Mikowicz,
Deputy Associate Director for Pay and Leave.

[FR Doc. 2012-31521 Filed 12-31-12; 8:45 am]

BILLING CODE 6325-39-P